DEPARTMENT OF ENERGY

Federal Energy Regulatory Commission

[Docket No. CP19-193-000]

Columbia Gulf Transmission, L.L.C.; Notice of Schedule for Environmental Review of the Mainline 100 and Mainline 200 Replacement Project

On April 22, 2019, Columbia Gulf Transmission, L.L.C. (Columbia) filed an application in Docket No. CP19-193 requesting a Certificate of Public Convenience and Necessity pursuant to Section 7(c) and 7(b) of the Natural Gas Act to construct, operate, and abandon certain natural gas pipeline facilities. The proposed project is known as the Mainline 100 and Mainline 200 Replacement Project (Project). The Project as proposed would consist of replacing two older sections of the Mainline 100 and Mainline 200 with pipeline containing thicker walls to minimize safety risks. The Project is located in Menifee and Montgomery Counties, Kentucky.

On May 1, 2019, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—October 25, 2019

90-day Federal Authorization Decision Deadline—January 23, 2020

If a schedule change becomes necessary, additional notice will be provided so that the relevant agencies are kept informed of the Project's progress.

Project Description

Columbia proposes replacing segments of the existing Class 2 Mainline 100 and Mainline 200 pipelines with Class 3 pipelines to meet the U.S. Department of Transportation's safety regulations. The replacement of Mainline 100 and Mainline 200 consists of the abandonment and replacement of approximately 2,650 feet of 30-inch-diameter natural gas transmission pipeline, within Montgomery and Menifee Counties, Kentucky.

Background

On July 12, 2019, the Commission issued a Notice of Intent to Prepare an Environmental Assessment for the Proposed Mainline 100 and Mainline 200 Replacement Project and Request for Comments on Environmental Issues (NOI). The NOI was sent to affected landowners; federal, state, and local government agencies; elected officials; environmental and public interest groups; Native American tribes; and other interested parties. To date, no comments have been received in response to the NOI. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP19-193), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: July 30, 2019.
Nathaniel J. Davis, Sr.,
Deputy Secretary.

[FR Doc. 2019-16625 Filed 8-2-19; 8:45 am]

BILLING CODE 6717-01-P